FEDERAL ELECTION COMMISSION

Sunshine Act Meeting

Previously Announced Date & Time: Thursday, November 8, 2001, Open Meeting Scheduled For 10:00 a.m. The Starting Time Has Been Changed to 11:30 a.m.

Previously Announced Date & Time: Thursday, November 15, 2001. Meeting Open To The Public. This Meeting Has Been Cancelled.

Date & Time: Wednesday, November 14, 2001 at 10:00 a.m.

Place: 999 E Street, NW., Washington, DC.

Status: This Meeting will be Closed to The Public.

Items to be Discussed: Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

Person To Contact for Information: Mr. Ron Harris, Press Officer, Telephone: (202) 694-1220.

Mary W. Dove,
Secretary of the Commission.

[FR Doc. 01-28253 Filed 11-6-01; 2:58 pm]

BILLING CODE 6715-01-M